FEDERAL EMERGENCY MANAGEMENT AGENCY

44 CFR Part 67

[Docket No. FEMA-D-7550]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street SW., Washington, DC 20472, (202) 646-3461, or (email) mike.grimm@fema.gov.

SUPPLEMENTARY INFORMATION: The Federal Emergency Management Agency (FEMA or Agency) proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
MISSISSIPPI
Rankin County (Unincorporated Areas)
Eutacutachee Creek | Approximately 250 feet from the confluence of Pelahatchie Creek | None | •333 | Rankin County (Unincorporated Areas)
| Approximately 760 feet upstream of International Paper Road | None | •387
Eutacutachee Creek Tributary 1 | At the confluence with Eutacutachee Creek | None | •360 | Rankin County (Unincorporated Areas)
| Approximately 7,070 feet upstream of the confluence with Eutacutachee Creek | None | •383
Eutacutachee Creek Tributary 2 | At the confluence with Eutacutachee Creek | None | •372 | Rankin County (Unincorporated Areas)
| Approximately 4,763 feet upstream of the confluence with Eutacutachee Creek | None | •380
Eutacutachee Creek Tributary 3 | At the confluence with Eutacutachee Creek | None | •360 | Rankin County (Unincorporated Areas)
| Approximately 0.7 mile upstream of Rankin Road | None | •387
Eutacutachee Creek Tributary 4 | At the confluence with Eutacutachee Creek | None | •355 | Rankin County (Unincorporated Areas)
| Approximately 100 feet upstream of Gulde-Shiloh Road | None | •390
Prairie Branch Tributary 1 | At the confluence with Prairie Branch Canal | •280 | •279 | Town of Flowood
| Approximately 800 feet upstream of U.S. Highway 475 | None | •284 |
Pelahatchie Bay Unnamed Tributary | At Pearl River Valley Water Supply District corporate limits | None | •307 | Rankin County (Unincorporated Areas)
| Approximately 510 feet upstream of Pearl River Valley Water Supply District corporate limits | None | •307
Pearl River Tributary 2 | At upstream side of Old U.S. Highway 49 | •271 | •270 | City of Richland
| Approximately 0.4 mile upstream of Old U.S. Highway 49 | •271 | •270
Woodrun Creek | Approximately 175 feet downstream of Interstate Route 20 | None | •337 | City of Brandon, City of Pearl
| Approximately 125 feet upstream of Mississippi Salvage Road | None | •360
Terrapin Skin Creek | Approximately 0.5 mile downstream of North Deer Ridge | •372 | •371 | Rankin County (Unincorporated Areas), City of Brandon
| Approximately 0.7 mile upstream of North Deer Ridge | None | •395
Hog Creek | Approximately 650 feet upstream of State Route 475 | •283 | •282 | Town of Flowood
| Approximately 200 feet upstream of State Highway 468 | •284 | •285
Richland Creek | Approximately 1.4 miles upstream of State Highway 471 | •343 | •344 | Rankin County (Unincorporated Areas), City of Brandon
| Approximately 1.1 miles upstream of U.S. Highway 80 | None | •373 |
Pelahatchie Creek Tributary 1 | Just upstream of State Route 43 | •352 | •351 | Town of Pelahatchie
| Approximately 375 feet upstream of Ragan Road | None | •370
Pearl River Tributary 3 | Approximately 3,000 feet downstream of U.S. Highway 25 | •283 | •282 | Town of Flowood
| Approximately 150 feet upstream of Flowood Drive | •283 | •282
Rankin County (Unincorporated Areas)
Maps available for inspection at the Rankin County Building, 211 East Government, Brandon, Mississippi.
Send comments to Mr. Ken Martin, President of the Rankin County Board of Supervisors, 211 East Government, Brandon, Mississippi 39042.
City of Brandon
Maps available for inspection at the Brandon City Hall, 201 North College Street, Brandon, Mississippi.
Send comments to The Honorable Truitt M. Grubbs, Mayor of the City of Brandon, P.O. Box 1539, Brandon, Mississippi 39043.
Town of Flowood
Maps available for inspection at the Flowood Town Hall, 2101 Airport Road, Flowood, Mississippi.
Send comments to The Honorable Gary Rhoads, Mayor of the Town of Flowood, P.O. Box 320069, Flowood, Mississippi 39232.
City of Pearl
Maps available for inspection at the Pearl City Hall, 2420 Old Brandon Road, Pearl, Mississippi.
Send comments to The Honorable Jimmy Foster, Mayor of the City of Pearl, P.O. Box 5948, Pearl, Mississippi 39288-5948.
Town of Pelahatchie
Maps available for inspection at the Pelahatchie City Hall, 705 Second Street, Pelahatchie, Mississippi.
Send comments to The Honorable Knox Ross, Jr., Mayor of the Town of Pelahatchie, P.O. Box 229, Pelahatchie, Mississippi 39145.
City of Richland
Maps available for inspection at the Richland City Hall, 380 Scarborough Street, Richland, Mississippi.
Send comments to The Honorable Shirley Hall, Mayor of the City of Richland, P.O. Box 180609, Richland, Mississippi 39218.
NORTH CAROLINA
Scotland County (Unincorporated Areas)
Beaverdam Creek | At the confluence with Juniper Creek | None | •246 | Scotland County (Unincorporated Areas)
| Approximately 1.5 miles upstream of Nashville Church Road | None | •263
Big Branch | At the confluence with Bridge Creek | None | •155 | City of Laurinburg, Scotland County (Unincorporated Areas)
| Approximately 0.5 mile upstream of Interstate 74 | None | •214
Big Muddy Creek | At the confluence with the Lumber River | None | •266 | Scotland County (Unincorporated Areas)
| At the County boundary | None | •311
Bridge Creek | At the confluence with Leith Creek | None | •146 | City of Laurinburg, Scotland County (Unincorporated Areas)
| Approximately 1,640 feet upstream of Andrew Jackson Highway/Interstate 74—Business | None | •229
Crawford Branch | At the confluence with Gum Swamp Creek | None | •242 | Scotland County (Unincorporated Areas)
| Approximately 1.3 miles upstream of Crawford Lake Road | None | •271
Crooked Creek | Approximately 700 feet downstream of the State boundary | None | •225 | Scotland County (Unincorporated Areas)
| Approximately 100 feet downstream of County Line Road | None | •243
Gum Swamp Creek | At Pea Bridge Road | None | •149 | City of Laurinburg, Scotland County (Unincorporated Areas)
| Approximately 0.5 mile upstream of Sneads Grove Road | None | •329
Gum Swamp Creek Tributary | At the confluence with Richmond Mill Lake/Gum Swamp Creek | None | •210 | Scotland County (Unincorporated Areas)
| Approximately 0.7 mile upstream of Gillis Road | None | •223
Joes Creek | At the confluence with Gum Swamp Creek | None | •178 | Scotland County (Unincorporated Areas)
| Approximately 1,000 feet downstream of CSX Transportation | None | •258
Joes Creek Tributary | At the confluence with Joes Creek | None | •219 | Scotland County (Unincorporated Areas)
| Approximately 100 feet downstream of Scotland County Line Road | None | •261
Jordan Creek | At the confluence with Juniper Creek | None | •192 | Scotland County (Unincorporated Areas)
| Approximately 950 feet downstream of Timmons Road | None | •300
Juniper Creek | At the confluence with Shoe Heel Creek | None | •179 | Scotland County (Unincorporated Areas)
| Approximately 1.8 miles upstream of Nashville Church Road | None | •259
Juniper Creek Tributary 1 | At the confluence with Juniper Creek | None | •180 | Scotland County (Unincorporated Areas)
| Approximately 750 feet upstream of Lee Lane | None | •221
Leith Creek | At the County boundary | None | •136 | Town of East Laurinburg, City of Laurinburg, Scotland County (Unincorporated Areas)
| Approximately 1,500 feet upstream of Old Wire Road | None | •248
Leith Creek Tributary 1 | At the confluence with Leith Creek | None | •137 | Scotland County (Unincorporated Areas)
| Approximately 50 feet downstream of Pea Bridge Road | None | •157
Leith Creek Tributary 2 | At the confluence with Leith Creek | None | •175 | Scotland County (Unincorporated Areas)
| Approximately 325 feet downstream of Andrew Jackson Highway/Interstate 74—Business | None | •189
Little Creek | At the confluence with Leith Creek | •180 | •186 | City of Laurinburg, Scotland County (Unincorporated Areas)
| Approximately 125 feet downstream of Aberdeen Road/Interstate 501-15 | None | •233
Little Juniper Creek | At the confluence with Juniper Creek | None | •197 | Scotland County (Unincorporated Areas)
| Approximately 280 feet upstream of Aberdeen Road/Interstates 01-15 | None | •256
Little Juniper Creek Tributary | At the confluence with Little Juniper Creek | None | •227 | Scotland County (Unincorporated Areas)
| Approximately 0.7 mile upstream of Aberdeen Road/Interstate 501-15 | None | •264
Little Shoe Heel Creek | At the confluence with Shoe Heel Creek | None | •213 | Scotland County (Unincorporated Areas)
| Approximately 1.7 miles upstream of North Turnpike Road | None | •331
Little Shoe Heel Creek Tributary | At the confluence with Little Shoe Heel Creek | None | •223 | Scotland County (Unincorporated Areas)
| Approximately 150 feet downstream of Arch McLean Road | None | •257
Lower Beaverdam Creek | At the confluence with Gum Swamp Creek | None | •180 | Scotland County (Unincorporated Areas)
| Approximately 1,900 feet upstream of Old Wire Road | None | •215
Lumber River | Approximately 3.0 miles upstream of McGirts Bridge Road | None | •205 | Scotland County (Unincorporated Areas), Town of Wagram
| At the County boundary | None | •268
Shoe Heel Creek | Approximately 700 feet downstream of Old Maxton Road | None | •164 | Scotland County (Unincorporated Areas)
| Approximately 1.6 miles upstream of Jane Shaw Road | None | •268
Steer Branch | At the confluence with Leith Creek | None | •144 | Scotland County (Unincorporated Areas)
| Approximately 50 feet downstream of CSX Transportation | None | •169
Towers Fork | At the confluence with Big Muddy Creek | None | •302 | Scotland County (Unincorporated Areas)
| Approximately 1.3 miles upstream of the confluence with Big Muddy Creek | None | •319
Upper Beaverdam Creek | At the confluence with Richmond Mill Lake/Gum Swamp Creek | None | •210 | Scotland County (Unincorporated Areas)
| Approximately 800 feet upstream of Marston Road | None | •225
Water Creek | At the confluence with Gum Swamp Creek | None | •153 | Scotland County (Unincorporated Areas)
| Approximately 1.4 miles upstream of Fox Crossings | None | •178
Scotland County (Unincorporated Areas)
Maps available for inspection at the Scotland County Governmental Annexation Building, 231 East Cronly Street, Laurinburg, North Carolina.
Send comments to Mr. Scott T. Sauer, Scotland County Manager, P.O. Box 489, Laurinburg, NC 28353.
Town of East Laurinburg
Maps available for inspection at the East Laurinburg Municipal Building, 28 Fourth Street, Laurinburg, North Carolina.
Send comments to The Honorable Douglas R. Miller, Mayor of the Town of East Laurinburg, P.O. Box 1106, 11 Third Street, East Laurinburg, North Carolina 28353.
City of Laurinburg
Maps available for inspection at the Laurinburg City Hall, 305 West Church Street, Laurinburg, North Carolina.
Send comments to The Honorable Ann B. Slaughter, Mayor of the City of Laurinburg, P.O. Box 249, Laurinburg, North Carolina 28352.
Town of Wagram
Maps available for inspection at the Wagram Town Offices, 24341 Riverton Road, Wagram, North Carolina.
Send comments to The Honorable Milton W. Farmer, Mayor of the Town of Wagram, P.O. Box 118, Wagram, North Carolina 28396.

(Catalog of Federal Domestic Assistance No. 83.100, “Flood Insurance.”)
Dated: December 31, 2002.
Anthony S. Lowe,
Administrator, Federal Insurance and Mitigation Administration.

[FR Doc. 03-610 Filed 1-10-03; 8:45 am]

BILLING CODE 6718-04-P